ENVIRONMENTAL PROTECTION AGENCY

[FRL-7618-6]

Great Lakes National Program Office FY2004-2005 Funding Guidance—Request for Initial Proposals

AGENCY: Environmental Protection Agency (EPA).

ACTION: Notice of funding availability.

SUMMARY: The U.S. Environmental Protection Agency's Great Lakes National Program Office (GLNPO) is requesting Initial Proposals for projects, collectively totaling up to $4,180,000, furthering protection and clean up of the Great Lakes ecosystem. Initial Proposals are requested through the USEPA Great Lakes National Program Office FY2004-2005 Funding Guidance (“Funding Guidance”).

DATES: The deadline for all Initial Proposals is 8 a.m. Central time, Monday morning, March 29, 2004.

ADDRESSES: The Funding Guidance is available on the Internet at http://www.epa.gov/glnpo/fund/2004guid/. It is also available from Lawrence Brail (312-886-7474/ brail.lawrence@epa.gov).

FOR FURTHER INFORMATION CONTACT: Mike Russ, EPA-GLNPO, G-17J, 77 West Jackson Blvd., Chicago, IL 60604 (312-886-4013/russ.michael@epa.gov).

SUPPLEMENTARY INFORMATION: Projects should address Contaminated Sediments, Pollution Prevention and Toxics Reduction, Habitat (Ecological) Protection and Restoration, Invasive Species, Strategic or Emerging Issues, and Other Lakewide Management Plan or Remedial Action Plan (LaMP/RAP) Priorities.

Assistance is available pursuant to Clean Water Act section 104(b)(3) for activities in the Great Lakes Basin and in support of the Great Lakes Water Quality Agreement. State pollution control agencies, interstate agencies, other public or nonprofit private agencies, institutions, and organizations are eligible to apply.

Dated: January 28, 2004.
Gary V. Gulezian,
Director, Great Lakes National Program Office.

[FR Doc. 04-2420 Filed 2-4-04; 8:45 am]

BILLING CODE 6560-50-P